DEPARTMENT OF COMMERCE

International Trade Administration

[A-588-815]

Gray Portland Cement and Cement Clinker From Japan: Continuation of Antidumping Duty Order

AGENCY: Enforcement and Compliance, International Trade Administration, Department of Commerce.

SUMMARY: As a result of the determination by the Department of Commerce (Department) and the International Trade Commission (ITC) that revocation of the antidumping duty (AD) order on gray portland cement and cement clinker (cement and clinker) from Japan would likely lead to continuation or recurrence of dumping and material injury to an industry in the United States, the Department is publishing a notice of continuation of this antidumping duty order.

DATES: Applicable July 17, 2017.

FOR FURTHER INFORMATION CONTACT: Amanda Brings, AD/CVD Operations, Enforcement and Compliance, International Trade Administration, U.S. Department of Commerce, 1401 Constitution Avenue NW., Washington, DC 20230; telephone: (202) 482-3927.

SUPPLEMENTARY INFORMATION:

Background

On November 1, 2016, the Department published the notice of initiation of the fourth sunset review of the antidumping duty order on cement and clinker from Japan pursuant to section 751(c) of the Tariff Act of 1930, as amended (the Act).¹ As a result of its review, the Department determined that revocation of the AD order would likely lead to a continuation or recurrence of dumping.² The Department, therefore, notified the ITC of the magnitude of the margins likely to prevail should the AD order be revoked. On July 5, 2017, the ITC published notice of its determination, pursuant to section 751(c) of the Act, that revocation of the AD order on cement and clinker from Japan would likely lead to a continuation or recurrence of material injury to an industry in the United States within a reasonably foreseeable time.³

Scope of the Order

¹ See Initiation of Five-Year (“Sunset”) Reviews, 81 FR 75808 (November 1, 2016).

² See Gray Portland Cement and Cement Clinker from Japan: Final Results of Expedited Fourth Sunset Review of the Antidumping Duty Order, 82 FR 12561 (March 6, 2017) (Final Results).

³ See Gray Portland Cement and Cement Clinker from Japan; Determination, 82 FR 31068 (July 5, 2017); see also Gray Portland Cement and Cement Clinker from Japan: Investigation No. 731-TA-461 (Fourth Review), ITC Publication 4704 (June 2017).

The products covered by the order are cement and cement clinker from Japan. Cement is a hydraulic cement and the primary component of concrete. Cement clinker, an intermediate material produced when manufacturing cement, has no use other than grinding into finished cement. Microfine cement was specifically excluded from the antidumping duty order. Cement is currently classifiable under the Harmonized Tariff Schedule (HTS) item number 2523.29 and cement clinker is currently classifiable under HTS item number 2523.10. Cement has also been entered under HTS item number 2523.90 as “other hydraulic cements.” The HTS item numbers are provided for convenience and customs purposes. The written product description remains dispositive as to the scope of the product covered by the order.⁴

⁴ The Department has made two scope rulings regarding subject merchandise. See Scope Rulings, 57 FR 19602 (May 7, 1992) (classes G and H of oil well cement are within the scope of the order), and Scope Rulings, 58 FR 27542 (May 10, 1993) (“Nittetsu Super Fine” cement is not within the scope of the order).

Continuation of the Order

As a result of the determinations by the Department and the ITC that revocation of the AD order would likely lead to a continuation or recurrence of dumping and material injury to an industry in the United States, pursuant to section 751(d)(2) of the Act and 19 CFR 351.218(a), the Department hereby orders the continuation of the AD order on cement and clinker from Japan. U.S. Customs and Border Protection will continue to collect AD cash deposits at the rates in effect at the time of entry for all imports of subject merchandise.

The effective date of the continuation of the order will be the date of publication in the Federal Register of this notice of continuation. Pursuant to section 751(c)(2) of the Act, the Department intends to initiate the next five-year review of this order not later than 30 days prior to the fifth anniversary of the effective date of continuation.

This five-year sunset review and this notice are in accordance with section 751(c) of the Act and published pursuant to section 777(i)(1) of the Act and 19 CFR 351.218(f)(4).

Dated: July 11, 2017.
Gary Taverman,
Deputy Assistant Secretary for Antidumping and Countervailing Duty Operations, performing the non-exclusive functions and duties of the Assistant Secretary for Enforcement and Compliance.

[FR Doc. 2017-14955 Filed 7-14-17; 8:45 am]

BILLING CODE 3510-DS-P